DEPARTMENT OF DEFENSE

Defense Acquisition Regulation System

[Docket No. 2012-0044-0001]

Submission for OMB Review; Comment Request; Correction

ACTION: Notice; correction.

SUMMARY: This document corrects the preamble to a notice published in the Federal Register on March 12, 2013, 78 FR 15711, regarding the Submission for OMB Review; Comment Request for OMB Control Number 0704-0250. This correction revises numbers delineated concerning the public burden data.

FOR FURTHER INFORMATION CONTACT: Ms. Meredith Murphy, 571-372-6098, OUSD(AT&L)DPAP(DARS), 3060 Defense Pentagon, Room 3B855, Washington, DC 20301-3060.

Correction

In the Federal Register of March 12, 2013, in FR Doc. 2013-5613, at 78 FR 15711, in the second column, correct the Number of Respondents and to Responses per Respondent to read:

Number of Respondents: 20,865.

Responses per Respondent: 7.29.

Kortnee Stewart,
Editor, Defense Acquisition Regulations System.

[FR Doc. 2013-07453 Filed 3-28-13; 8:45 am]

BILLING CODE 5001-06-P